DEPARTMENT OF JUSTICE

Antitrust Division

Notice Pursuant to the National Cooperative Research and Production Act of 1993—Interactive Advertising Bureau

Notice is hereby given that, on December 29, 2005, pursuant to section 6(a) of the National Cooperative Research and Production Act of 1933, 15 U.S.C. 4301 et seq. (“the Act”), Interactive Advertising Bureau (“IAB”) has filed written notifications simultaneously with the Attorney General and the Federal Trade Commission disclosing additions or changes to its standards development activities. The notifications were filed for the purpose of extending the Act's provisions limiting the recovery of antitrust plaintiffs to actual damages under specified circumstances. Specifically, IAM has recently completed the development of standards for Broadband Ad Creative Guidelines and is currently developing standards for Nomenclature.

On September 17, 2004, IAB field its original notification pursuant to section 6(a) of the Act. The Department of Justice published a notice in the Federal Register pursuant to section 6(b) of the Act on October 21, 2004 (69 FR 61868).

The last notification was filed with the Department on January 4, 2005. A notice was published in the Federal Register pursuant to section 6(b) of the Act on February 11, 2005 (70 FR 7307).

Dorothy B. Fountain,
Deputy Director of Operations, Antitrust Division.

[FR Doc. 06-819 Filed 1-27-05; 8:45 am]

BILLING CODE 4410-11-M